DEPARTMENT OF HEALTH AND HUMAN SERVICES

[Document Identifier OS-0990-New; 30-day Notice]

Agency Information Collection Request. 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, email your request, including your address, phone number, OMB number, and OS document identifier, to Sherette.funncoleman@hhs.gov, or call the Reports Clearance Office on (202) 690-5683. Send written comments and recommendations for the proposed information collections within 30 days of this notice directly to the OS OMB Desk Officer; faxed to OMB at (202) 395-5806.

Proposed Project: Pregnancy Prevention Approaches Evaluation Baseline Data Collection—OMB No. OS-0990-NEW—The Office of Adolescent Health (OAH).

Abstract: The Office of Adolescent Health (OAH), Office of the Assistant Secretary for Health (OASH), U.S. Department of Health and Human Services (HHS), is overseeing and coordinating adolescent pregnancy prevention evaluation efforts as part of the Teen Pregnancy Prevention Initiative. OAH is working collaboratively with the Office of the Assistant Secretary for Planning and Evaluation (ASPE), the Centers for Disease Control and Prevention (CDC), and the Administration for Children and Families (ACF) on adolescent pregnancy prevention evaluation activities.

The Evaluation of Adolescent Pregnancy Prevention Approaches (PPA) is one of these efforts. PPA is a random assignment evaluation which will expand available evidence on effective ways to reduce teen pregnancy. The evaluation will document and test a range of pregnancy prevention approaches in up to eight program sites. The findings from the evaluation will be of interest to the general public, to policy-makers, and to organizations interested in teen pregnancy prevention.

OAH proposed baseline data collection activity as part of the PPA evaluation. A core baseline data collection instrument was approved on July 26, 2010. The project has worked in recent months to secure grantees as evaluation sites, and as part of this effort the project has undertaken making revisions to the baseline instrument with each site. These revisions were undertaken because each site has unique features (e.g. target population; curriculum; objectives) and the baseline instruments were tailored to take these features into account. Emergency clearance of the site-specific baseline package was approved August 17, 2011 (ICR Reference No: 201107-0970-003). OAH is now requesting full clearance to collect data using site-specific instruments with a 3-year expiration date.

Estimated Annualized Burden Table
Site/Program (and name of baseline instrument) | Annualized number of respondents | Number of responses per respondent | Average burden hours per response | Total burden hours (annual)
Chicago Public Schools/Health Teacher | 1518 | 1 | 36/60 | 911
Children's Hospital of Los Angeles/Project AIM | 467 | 1 | 42/60 | 327
Oklahoma Institute of Child Advocacy/Power Through Choices | 360 | 1 | 36/60 | 216
Engender Health/Gender Matters | 375 | 1 | 36/60 | 225
Ohio Health/T.O.P.P. | 200 | 1 | 42/60 | 140
Live the Life Ministries/WAIT Training | 533 | 1 | 42/60 | 373
Princeton Center for Leadership Traning (PCLT)/TeenPEP | 533 | 1 | 36/60 | 320
Total |  |  |  | 2512

Keith A. Tucker,
Office of the Secretary, Paperwork Reduction Act Clearance Officer.

[FR Doc. 2011-33391 Filed 12-28-11; 8:45 am]

BILLING CODE P